DEPARTMENT OF ENERGY

Federal Energy Regulatory Commission

[Project No. 2333-094]

Rumford Falls Hydro LLC; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 2333-094.

c. Date filed: September 29, 2022. Supplemented on March 30 and June 9, 2023.

d. Applicant: Rumford Falls Hydro LLC.

e. Name of Project: Rumford Falls Hydroelectric Project.

f. Location: On the Androscoggin River in the Town of Rumford, Oxford County, Maine.

g. Filed Pursuant to: Federal Power Act 16 U.S.C. 791(a)-825(r).

h. Applicant Contact: Mr. Luke Anderson, Rumford Falls Hydro LLC, Brookfield Renewable, 150 Main St., Lewiston, Maine 04240, (207) 755-5613, luke.anderson@brookfieldrenewable.com.

i. FERC Contact: Ryan Hansen at (202) 502-8074 or email at ryan.hansen@ferc.gov.

j. Deadline for filing motions to intervene and protests, comments, recommendations, preliminary terms and conditions, and preliminary prescriptions: 60 days from the issuance date of this notice; reply comments are due 105 days from the issuance date of this notice.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

The Commission strongly encourages electronic filing. Please file motions to intervene, protests, comments, recommendations, preliminary terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Washington, DC 20426. Submissions sent via any other carrier must be addressed to: Kimberly D. Bose, Secretary, Federal Energy Regulatory Commission, 12225 Wilkins Avenue, Rockville, Maryland 20852. All filings must clearly identify the project name and docket number on the first page: Rumford Falls Hydroelectric Project (P-2333-094).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

The Council on Environmental Quality (CEQ) issued a final rule on April 20, 2022, revising the regulations under 40 CFR parts 1502, 1507, and 1508 that Federal agencies use to implement the National Environmental Policy Act (NEPA) (see National Environmental Policy Act Implementing Regulations Revisions, 87 FR 23453-70). The final rule became effective on May 20, 2022. Commission staff intends to conduct its NEPA review in accordance with CEQ's new regulations.

l. The existing Rumford Falls Project consists of two developments, the Upper Station and Lower Station. The Upper Station Development consists of the following existing facilities: (1) a concrete gravity dam with a 464-foot-long, 37-foot-high ogee type spillway section with 32-inch-high, pin-supported wooden flashboards; (2) a reservoir with a storage capacity of 2,900 acre-feet and a surface area of approximately 419 acres at a maximum headwater elevation of 601.24 feet; ¹ (3) a 2,300-foot-long, 150-foot-wide forebay; (4) a gatehouse containing two headgates for each of the four penstocks for a total of eight headgates with trashracks; (5) four 110-foot-long underground steel-plate penstocks, three of which are 12 feet in diameter, and one of which is 13 feet in diameter; (6) a masonry powerhouse integral with the dam that is composed of two adjoining stations (a) a 30-foot-wide, 110-foot-long, 92-foot-high Old Station, containing one horizontal generating unit with a capacity of 4,300 kilowatts (kW), and (b) a 60-foot-wide, 140-foot-long, 76-foot-high New Station containing three vertical generating units, two with a capacity of 8,100 kW each, and one with a capacity of 8,800 kW; (7) four 11.5-kilovolt (kV) overhead transmission lines, two of which are de-energized, and the other two are: a 4,500-foot-long line 2 and a 4,200-foot-long line 3; and (8) appurtenant facilities.

¹ All elevations are in National Geodetic Vertical Datum of 1929.

The Lower Station Development consists of the following existing facilities: (1) a rock-filled, wooden cribbed and concrete-capped Middle Dam, with a 328.6-foot-long, 20-foot-high gravity spillway section with a crest elevation of 502.74 feet with 16-inch-high, pin-supported, wooden flashboards; (2) a reservoir with storage capacity of 141 acre-feet and a surface area of 21 acres at a normal maximum headwater elevation of 502.7 feet; (3) a 120-foot-long concrete headgate structure located adjacent to the dam with ten steel headgates and a waste weir section perpendicular to the headgate structure with a crest elevation of 502.6 feet and 10-inch-high flashboards regulating flow to the Middle Canal; (4) a 2,400-foot-long Middle Canal with a width ranging from 75 to 175 feet and a depth from 8 to 11 feet; (5) a gatehouse containing two headgates, trashracks, and other appurtenant equipment regulating flow from the canal into two penstocks; (6) two 815-foot-long, 12-foot-diameter, steel-plate penstocks conveying flow from the gatehouse to two surge tanks; (7) two 36-foot-diameter, 50.5-foot-high cylindrical surge tanks; (8) two 77-foot-long, 12-foot-diameter steel penstocks conveying flow from the surge tanks to the powerhouse; (9) a masonry powerhouse containing two identical vertical units, each with a 7,600-kW capacity; (10) two 600-foot-long, 11.5-kV parallel generator leads; and (11) appurtenant facilities.

Rumford Falls Hydro LLC operates the project in a run-of-river mode and does not propose any changes to project facilities or operation. The project would continue to generate an estimated average of 270,800 megawatt-hours annually.

m. This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST,” “MOTION TO INTERVENE,” “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule: The application will be processed according to the following schedule. Revisions to the schedule may be made as appropriate.

Milestone | Target date
Filing of Comments, Recommendations, Preliminary Terms and Conditions, and Preliminary Fishway Prescriptions | August 25, 2023.
Filing of Reply Comments | October 9, 2023.

p. Final amendments to the application must be filed with the Commission no later than 30 days from the issuance date of this notice.

q. The applicant must file no later than 60 days following the date of issuance of this notice: (1) a copy of the water quality certification; (2) a copy of the request for certification, including proof of the date on which the certifying agency received the request; or (3) evidence of waiver of water quality certification. Please note that the certification request must comply with 40 CFR 121.5(b), including documentation that a pre-filing meeting request was submitted to the certifying authority at least 30 days prior to submitting the certification request. Please also note that the certification request must be sent to the certifying authority and to the Commission concurrently.

Dated: June 26, 2023.
Kimberly D. Bose,
Secretary.

[FR Doc. 2023-13995 Filed 6-30-23; 8:45 am]

BILLING CODE 6717-01-P